DEPARTMENT OF COMMERCE

National Oceanic and Atmospheric Administration

[Docket No. 010410087-1131-02; I.D. 032901A]

RIN 0648-AO07

New England Fishery Management Council; Notice and Request for Sea Scallop Research Proposals

AGENCY: National Marine Fisheries Service (NMFS), National Oceanic and Atmospheric Administration (NOAA), Commerce.

ACTION: Notice of solicitation for applications.

SUMMARY: NMFS issues this document to describe how you, the researcher, may submit a proposal for and be selected to perform sea scallop research projects during fishing years 2001 (March 1, 2001, through February 28, 2002) and 2002 (March 1, 2002, through February 28, 2003) funded by a 1-percent set-aside of the scallop total allowable catch (TAC) under Framework Adjustment 14 to the New England Fishery Management Council's (Council) Atlantic Sea Scallop Fishery Management Plan (FMP), and how NOAA and the Council will determine whether to select your proposal.

DATES: To be considered under this solicitation, all research proposals that would utilize the fishing year 2001 TAC set-aside must be received between May 29, 2001 and 5 p.m., EDT, on June 19, 2001 (see ADDRESSES section of this document). To be considered under this solicitation, all research proposals that would utilize only the fishing year 2002 TAC set-aside must be received between May 29, 2001 and 5 p.m., EST, on November 1, 2001, in the Northeast Regional Office (see ADDRESSES section of this document).

Postmarks indicating the proposals were mailed on these dates will not be sufficient. Facsimile applications will not be accepted. For further information related to the timeframe and procedures for submission, review, and selection of proposals to be conducted with TAC set-aside funds from the Hudson Canyon and Virginia Beach Areas, see Section A, Background, under SUPPLEMENTARY INFORMATION of this document.

ADDRESSES: Proposals must be submitted to Patricia A. Kurkul, Regional Administrator, NMFS, Northeast Regional Office, One Blackburn Drive, Gloucester, MA 01930. Mark proposals “Attention—Sea Scallop Research Proposals.”

Copies of the Standard Forms for submission of research proposals may be found on the Internet in a PDF (Portable Document Format) version at http://www.ofa.noaa.gov/ÿ7Egrants/index.html under the title “Grants Management Forms,” or by contacting the Council office (see FOR FURTHER INFORMATION CONTACT)

FOR FURTHER INFORMATION CONTACT: Patricia M. Fiorelli, New England Fishery Management Council, (978) 465-0492, or Peter Christopher, NMFS, (978) 281-9288.

SUPPLEMENTARY INFORMATION:

A. Background

The final rule implementing Framework 14 was published in the Federal Register on May 1, 2001 (66 FR 21639). Framework 14 implements a Scallop Area Access Program for the Hudson Canyon and Virginia Beach Areas (formerly referred to as the Hudson Canyon South and Virginia Beach Closed Areas, respectively). These areas have been closed since 1998. Under this areas access program, limited access sea scallop vessels would be allowed to land scallops in excess of the possession limit, or take additional trips above those provided for in the program, and use the proceeds of the excess catch or additional trips to offset the costs of the research proposals submitted in response to this notice. The Hudson Canyon and Virginia Beach Sea Scallop Access Areas were re-opened to scallop fishing upon implementation of the final rule implementing Framework 14 (May 1, 2001). Authorization to fish in the two Sea Scallop Access Areas would continue through the 2002 fishing year. Each year, the areas would remain open until one of three events triggered a closure: (a) The fishing year ends (February 28, 2002, for fishing year 2001, and February 28, 2003, for fishing year 2002); (b) the scallop landings from an area exceed the TAC and it is closed by the Regional Administrator, Northeast Region, NMFS (Regional Administrator); or (c) vessels use all authorized trips to fish for scallops within one or both of the areas. Framework 14 authorizes three trips per vessel for each area in fishing year 2001 and three trips per vessel for each area in fishing year 2002, unless modified by action taken by the Regional Administrator. NOAA, in cooperation with the Council, is soliciting proposals for sea scallop research for both the 2001 and 2002 fishing years utilizing TAC set-aside from the Hudson Canyon and Virginia Beach Areas. Vessels participating in an approved project and fishing in the Sea Scallop Access Areas would be authorized by the Regional Administrator to take additional trips into the areas and/or to land scallops in excess of the 17,000-lb (7,711.1-kg) possession limit specified for fishing year 2001 and in excess of the 18,000-lb (8,164.7-kg) possession limit for fishing year 2002.

All research proposals to be conducted with TAC set-aside funds from the Hudson Canyon and Virginia Beach Areas must be received during the submission period identified in the DATES section of this document. Applicants must submit one signed original and two signed copies of the completed application (including supporting information). Once the applications are received, NOAA will either seek comments from the Council through the Council’s public review process, or convene a Review Team, which will include representatives from the Council and may include independent technical experts, for the purpose of reviewing proposals in closed meetings under the direction of NOAA.

The total set-aside available for research is 293,256 lb (133.0 mt), an amount of scallops that has an approximate value of $1,173,024 (with prices varying according to season and availability). The TAC set-aside for sea scallop research for the 2001 fishing year is as follows: 139,575 lb (63 mt) for the Hudson Canyon Area; and 6,238 lb (3 mt) for the Virginia Beach Area. For the 2002 fishing year, the TAC set-aside for research is: 141,428 lb (64 mt) for the Hudson Canyon Area; and 6,015 lb (3 mt) for the Virginia Beach Area.

NOAA will award a grant to successful applicants through its grant award process. The project period for sea scallop research cannot predate the current Atlantic sea scallop fishing year. The project period may not extend beyond February 28, 2003, and any portion of the 2001 fishing year TAC awarded must be caught for compensation by February 28, 2002. The actual research portion of the proposals could be conducted up through February 28, 2003, provided the compensation portion of the proposal is conducted during the fishing year from which the research TAC set-aside is being requested. Proposals to fund research that started on or after the project period began are eligible for consideration. However, if the project is not approved, any research or expenditures related to this project will be the sole responsibility of the researcher without any further compensation from the TAC set-aside funds.

NMFS may, with the concurrence of the Council, publish a second Request for Proposals for the fishing year 2002 if it is deemed necessary.

B. Authority

Issuing grants is consistent with sections 402(e), 303(b)(11), 304(e), and 404(c) of the Magnuson-Stevens Fishery Conservation and Management Act, 16 U.S.C. 1801 et seq.

C. Catalog of Federal Domestic Assistance

11.454, Unallied Management Projects

D. Funding Instrument and Project Period

NOAA will award a grant to successful applicants through its grant award process. The project period for sea scallop research can not predate the current Atlantic sea scallop fishing year, March 1, 2001. The project period may not extend beyond February 28, 2003. Any portion of the 2001 fishing year TAC awarded must be caught for compensation by February 28, 2002. Proposals to fund research started on or after the project period are eligible for consideration. However, if the project is not approved, any research or expenditures related to this project will be the sole responsibility of the researcher without any further compensation from the TAC set-aside funds.

E. Funding Availability

No Federal funds are provided for sea scallop research under this notice. The Federal Government's contribution to the project will be a Letter of Authorization that will provide special fishing privileges in response to sea scallop research proposals selected to participate in this program. The Federal Government shall not be liable for any costs incurred in the conduct of the project. The funds generated from the additional landings authorized in the Letter of Authorization shall be used to cover the cost of the sea scallop research, including vessel costs, and to compensate vessel owners for expenses incurred. Therefore, the owner of each fishing vessel selected to land scallops in excess of the trip limit or from additional authorized trips must use the proceeds of the sale of the excess catch to compensate the researcher for costs associated with the research activities and use of the vessel. Any additional funds above the cost of the research activities (or excess program income) shall be retained by the vessel owner as compensation for the use of his/her vessel.

F. Scope of Sea Scallop Research

Projects funded under the sea scallop TAC set-aside program should enhance understanding of the scallop resource or contribute to the body of information on which management decisions are made. Sea scallop research may be conducted in or outside of the Hudson Canyon and Virginia Beach Areas, within or outside of the Sea Scallop Area Access Program timeframe, and on board a fishing or other type of vessel. Sea scallop research conducted with these TAC set-aside funds also may or may not involve the harvest of scallops.

Funds generated from the set-aside landings shall be used to cover the cost of the research activities, including vessel costs, and to compensate boats for expenses incurred during the collection of set-aside scallops. For example, these funds could be used to pay for gear modifications, monitoring equipment, additional provisions (e.g., fuel, ice, food for scientists) or the salaries of research personnel. The Federal Government is not liable for any costs incurred by the researcher or vessel owner, should the sale of the excess catch not fully reimburse the researcher or vessel owner for their expenses.

G. Eligibility Criteria

All commercial organizations; non-profit organizations; state, local or tribal governments; institutions of higher education; and individuals are eligible to apply, provided that all proposal requirements are satisfied and the proposal is received by the date specified in this document.

Pursuant to Executive Orders 12876, 12900, and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSIs) in order to advance the development of human potential, to strengthen the nation's capacity to provide high-quality education, and to increase opportunities for MSIs to participate in, and benefit from, Federal Financial Assistance programs. DOC/NOAA encourages all applicants to include meaningful participation of MSIs.

H. Proposal Requirements

Proposals must be submitted to NOAA and must identify the sea scallop research to be conducted and the Sea Scallop Access Area within which the research and/or compensation trip is to be conducted, and the total amount of scallops requested for the project, including, using a scallop meat value of $4.50 per pound, their average approximate monetary value over the last year. Additionally, each proposal must identify the requirements for the participating vessel(s) that would make a Sea Scallop Access Area trip to collect the scallop set-aside. The vessel selected by the applicant should be listed in the proposal, if possible, or specifically identified prior to final approval by NOAA. The proposal must also include the agreement between the vessel owner and researcher that shows exactly how the research activity is to be paid for, if possible, or such agreement must be provided prior to final approval by NOAA. Proposals may request that the scallop set-aside be collected separately from the sea scallop research trip or other related research trip. The separate sea scallop research compensation trips do not necessarily have to be conducted by the same vessel. The Council or NMFS contact person may provide assistance to researchers who are seeking vessels to participate in the collection of set-aside scallops or directly in research projects. The Council or NMFS may publish a list of those vessel owners willing to participate through their respective homepages.

I. Confidentiality of Information

In the event that an application contains information or data that the applicant does not want disclosed prior to award for purposes other than the evaluation of the application, the applicant should mark each page containing such information or data with the words “Privileged, Confidential, Commercial, or Financial Information - Limited Use” at the top of the page to assist NOAA in making disclosure determinations. DOC regulations implementing the Freedom of Information Act (FOIA) are found at 15 CFR part 4, “Public Information,” which sets forth rules for DOC to make requested materials, information, and records publicly available under FOIA. To the extent permitted under FOIA, the contents of applications and proposals submitted by successful applicants may be released in response to FOIA requests.

J. Project Funding Priorities

Sea scallop research projects that identify and evaluate gear to reduce groundfish bycatch and habitat impacts and that provide improved information concerning scallop abundance estimates are considered high priority by the Council. Sea scallop research that involves evaluating the distribution, size composition, and density of scallops in the closed areas prior to the open periods also will be considered high priority. Other research needs (not listed in order of priority) that also will be considered by the Council and NOAA follow:

1. Evaluation of ways to control predation on scallops; Research to actively manage spat collection and seeding of sea scallops;

2. Social and economic impacts and consequences of closing areas to enhance productivity and improve yield for sea scallops and other species;

3. High resolution surveys that include distribution, recruitment, mortality and growth rate information;

4. Estimation of factors affecting fishing power for each limited access vessel;

5. Demonstration projects to identify ways to reduce discard mortality, increase efficiency without increasing fishing power (e.g., decreasing processing time with sorters) and improve safety;

6. Research to identify scallop habitat and ecological relationships that affect reproduction, recruitment mortality and growth, including those enhanced/impeded by area closures;

7. Quantification of fishing costs related to fishing for sea scallops in specific areas (e.g., fishing gear modification, steaming time, and opportunity cost);

9. Identification of fishermen's perceptions about area-based management and alternative strategies;

10. Processing and analyzing of data that will be collected or that have already been collected;

11. Broader investigations of variability in dredging efficiency across habitats (substrates, current velocities, etc.) times, areas, and gear designs; and

12. Research that provides more detailed sea scallop life history information (especially on age-and area-specific natural mortality and growth) and to identify stock-recruitment relationships.

K. Evaluation Criteria

The Council or the Review Team convened by NOAA will evaluate proposals based on the assigned score for each of the following criteria:

1. A clear definition of the problem, need, issue or hypothesis to be addressed (10 points);

2. A clear definition of the approach to be used, including theoretical studies, laboratory analyses, and/or field work (15 points);

3. Adequate justification as to how the project is likely to achieve its stated objectives (20 points);

4. Identification of anticipated benefits, potential users and methods of disseminating results (10 points);

5. Relevance of the project to the research needs identified by the Council (20 points);

6. Demonstration of support, cooperation and/or collaboration with the fishing industry (15 points); and

7. Cost-effectiveness of the project (10 points).

L. Selection Procedures

Applications may be reviewed and evaluated by either the Council at the request of NOAA or by the Review Team convened by NOAA. If the Council is requested to review the proposals, the proposals will be reviewed in a public meeting process by representatives of the Council based on the criteria contained in Section K of this notice. The Council’s representatives would then make recommendations to the Council. The Council would consider the recommendations of its representatives, the Project Funding Priorities identified in Section J, the Evaluation Criteria identified in Section K, and may also consider the time of year the research activities are to be conducted, ability to meet requirements under Section O of this notice, and logistic concerns. The Council would then make its recommendations to the Regional Administrator. NOAA would consider the Council's recommendations, provide final approval of the projects, and authorize selected vessel(s) to exceed the possession limit, take additional trips, or be exempt from other regulations specified in the FMP through written notification to the applicant. Because NOAA will take into account time of year the research activities are to be conducted, ability to meet requirements under Section O of this notice, including evaluations of proposals through the Experimental Fishery Procedures contained in 50 CFR 600.745 and 648.12, and logistic concerns, projects may not be selected in the order recommended by the Council.

If the Council does not participate in the evaluation of the proposals, NOAA will solicit written technical evaluations based on the evaluation criteria contained in Section K of this notice from three or more private and/or public sector experts to determine the technical merit of the proposal. Following completion of the technical evaluation, NOAA will convene a Review Team whose members would evaluate the proposals using the Project Funding Priorities identified in Section J and the Evaluation Criteria identified in Section K of this notice. Based on the individual recommendations of each of the members of this Review Team, and based on program policy factors identified in this notice, NOAA will provide final approval and authorize vessels to participate in the research projects. All sea scallop research must be conducted in accordance with provisions approved by NOAA and provided in a Letter of Authorization issued by NMFS.

M. Proposal Format

Proposals should be limited to 6 pages, excluding item 5 here. The format may vary, but must include:

1. A project summary;

2. A narrative project description to include: (a) Project goals and objectives; (b) the relationship of the proposed project to management needs or priorities identified by the Council; (c) a statement of work (project design and management--who is responsible, expected products, participants other than applicant); and (d) a summary of the existing state of knowledge related to project and contribution and relevance of the proposed work;

3. A description of all funding sources (including revenues derived from the sale of scallops harvested under the research TAC set-aside) and funding needs. This element of the proposal must include the amount of scallop TAC set-aside requested, state which scallop closed area the research and/or compensation trip is to be conducted in, and the expected funds to be generated by the sale of those scallops; also the expected percentage of funds to be allocated to the researcher and any involved fishing vessel;

4. A budget that includes a breakdown of costs (permit costs, equipment, supplies, overhead); applicants must submit a Standard Form 424 “Application for Federal Assistance” including a detailed budget using Standard Form 424A, “Budget Information—Non-Construction Programs,” Standard Form 424B, “Assurances—Non-Construction Programs,” and Commerce Department Form CD-511, “Certifications Regarding Debarment, Suspension and Other Responsibility Matters: Drug Free Workplace Requirements and Lobbying.” Copies of these Standard Forms may be found on the Internet in a PDF (Portable Document Format) version at http://www.ofa.noaa.gov/ÿ7Egrants/index.html under the title “Grants Management Forms,” or by contacting the Council office (see FOR FURTHER INFORMATION CONTACT); and

5. Supporting documents (resumes, cooperative research agreements, contracts, etc.).

N. Final Reports

NOAA and the Council will require project researchers to submit an interim and/or final report describing their research project results, or other acceptable deliverable(s), in a timeframe that is specific to the type of research conducted. The format of the final report may vary, but must contain:

1. A brief summary of the final report;

2. A description of the issue/problem that was addressed;

3. A detailed description of methods of data collection and analyses;

4. A discussion of results and any relevant conclusions presented in a format that is understandable to a non-technical audience; this should include benefits and/or contributions to management decision-making;

5. A list of entities, firms or organizations that actually performed the work and a description of how that was accomplished; and

6. A detailed final accounting of all funds used to conduct sea scallop research, including those provided through the research set-aside. The financial information must be submitted on Office of Management and Budget Standard Form-269. Copies of this Standard Form may be found on the Internet in a PDF version at http://www.ofa.noaa.gov/ÿ7Egrants/index.html under the title “Grants Management Forms”, or by contacting the Council office (see FOR FURTHER INFORMATION CONTACT).

O. Other Requirements

Evaluations of the impacts of sea scallop research, which involve exemptions to the current fishing regulations, other than those stated in the FMP, will be made by NMFS. Vessels conducting certain types of sea scallop research requiring relief from fishery regulations may be required to obtain an Exempted Fishing Permit (EFP). To apply for an EFP, interested parties must submit an application to NMFS at least 60 days before the effective date of the EFP. Additional time could be necessary for NMFS to make determinations regarding requirements under the National Environmental Policy Act (NEPA) and other applicable laws.

P. Other Requirements of Recipients

1. Federal Policies and Procedures

Recipients and subrecipients are subject to all Federal laws and Federal and DOC policies, regulations, and procedures applicable to Federal financial assistance awards.

2. Past Performance

Unsatisfactory performance under prior Federal awards may result in a proposal not being selected

3. Delinquent Federal Debt

A proposal submitted by an applicant who has an outstanding delinquent Federal debt is not eligible for selection until either:

i. The delinquent account is paid in full,

ii. A negotiated repayment schedule is established and at least one payment is received, or

iii. Other arrangements satisfactory to DOC are made.

4. Name Check Review

All non-profit and for-profit applicants are subject to a name check review process. Name checks are intended to reveal if any key individuals associated with the applicant have been convicted of, or are presently facing, criminal charges such as fraud, theft, perjury, or other matters that significantly reflect on the applicant's management, honesty, or financial integrity.

5. Primary Applicant Certifications

All primary applicants must submit a completed Form CD-511, “Certifications Regarding Debarment, Suspension and Other Responsibility Matters; Drug-Free Workplace Requirements and Lobbying,” and the following explanations are hereby provided:

i. Nonprocurement Debarment and Suspension. Prospective participants (as defined at 15 CFR 26.105) are subject to 15 CFR part 26, “Nonprocurement Debarment and Suspension” and the related section of the certification form prescribed above applies;

ii. Drug-free Workplace. Grantees (as defined at 15 CFR 26.605) are subject to 15 CFR part 26, subpart F, “Governmentwide Requirements for Drug-Free Workplace (Grants)” and the related section of the certification form prescribed above applies;

iii. Anti-lobbying. Persons (as defined at 15 CFR 28.105) are subject to the lobbying provisions of 31 U.S.C. 1352, “Limitation on use of appropriated funds to influence certain Federal contracting and financial transactions,” and the lobbying section of the certification form prescribed here applies to applications/bids for grants, cooperative agreements, and contracts for more than $100,000, and loans and loan guarantees for more than $150,000; and

iv. Anti-lobbying Disclosures. Any applicant who has paid or will pay for lobbying using any funds must submit an SF-LLL, “Disclosure of Lobbying Activities,” as required under 15 CFR part 28, appendix B.

6. Lower Tier Certifications

Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DOC. SF-LLL submitted by any tier recipient or subrecipient should be submitted to DOC in accordance with the instructions contained in the award document.

7. False Statements

A false statement on an application is grounds for denial or termination of funds and grounds for possible punishment by a fine or imprisonment as provided in 18 U.S.C. 1001.

8. Pre-award Activities

If you incur any costs prior to receiving an award agreement signed by an authorized NOAA official, you do so solely at your own risk of these costs not being included under the award. Notwithstanding any verbal or written assurance that you may have received, pre-award costs are not allowed under the award unless the grants officer approves them in accordance with 15 CFR 14.28.

9. Future Awards

If we select your application to perform sea scallop research to be conducted with the scallop TAC set-aside, we have no obligation to provide any additional TAC set-aside obligations in connection with that award.

Classification

Prior notice and opportunity for public comments are not required by the Administrative Procedure Act or any other law for this notice concerning grants, benefits, and contracts (5 U.S.C. 553(a)(2)).

Because a general notice of proposed rulemaking as specified in 5 U.S.C. 533, or any other law, was not required for this action, the analytical requirements of the Regulatory Flexibility Act, 5 U.S.C. 601 et seq., are not applicable.

This notice contains collection-of-information requirements subject to the Paperwork Reduction Act. The use of Standard Forms 269, 424, 424A, 424B, and SF-LLL have been approved by OMB under the respective control numbers 0348-0039, 0348-0043, 0348-0044, 0348-0040, and 0348-0046.

Notwithstanding any other provision of law, no person is required to respond to, nor shall any person be subject to a penalty for failure to comply with, a collection of information subject to the Paperwork Reduction Act, unless that collection displays a currently valid OMB control number.

This action has been determined to be not significant for purposes of Executive Order 12866.

Dated: May 23, 2001.
John Oliver,
Acting Assistant Administrator for Fisheries, National Marine Fisheries Service.

[FR Doc. 01-13416 Filed 5-23-01; 4:15 pm]

BILLING CODE 3510-22-S